DEPARTMENT OF TRANSPORTATION

Federal Aviation Administration

14 CFR Parts 125 and 135

Notice of Regulatory Review

AGENCY: Federal Aviation Administration.

ACTION: Notice and request for comments.

SUMMARY: By this document, the Federal Aviation Administration (FAA) announces a comprehensive regulatory review of 14 CFR parts 135 and 125. This review will also encompass related portions of parts 91, 119, 121, and other regulations, as appropriate. The FAA will establish a part 135/125 Aviation Rulemaking Committee to conduct this review and provide advice and recommendations to:

a. Resolve current issues affecting this part of the industry.

b. Enable new aircraft types, size and design and new technologies in air transportation operations.

c. Provide safety and applicability standards that reflect the current industry, industry trends and emerging technologies and operations.

d. Address international harmonization and ICAO standards.

e. Potentially, rescind part 125 from 14 Code of Federal Regulations.

The FAA invites persons interested in serving on this committee or work groups to request membership in accordance with this document. The FAA will select members to provide a balance of viewpoints, interests, and expertise. Membership on the committee may be limited to facilitate discussions and to maintain a balance of interests.

In addition, the FAA invites interested persons to submit specific, detailed written comments, or provide input on the affected regulatory sections. These comments will be considered in the committee discussions and will assist in determining future regulatory action.

DATES: Membership: Persons interested in participating on committees or work groups should submit their request on or before March 5, 2003. Selected members will be advised in writing of their participation and meeting details. In addition meeting information will be posted on the Office of Rulemaking's web site under the heading of “Advisory Committees.”

Comments: The FAA will consider all comments on this regulatory review filed on or before June 3, 2003. We will consider comments filed late if it is possible to do so without incurring expense or delay.

ADDRESSES: Membership: Persons requesting membership or participation on the part 135/125 Aviation Rulemaking Committee and/or associated work groups should make the request in writing to the person listed below under FOR FURTHER INFORMATION CONTACT.

Comments: Address your comments to the Docket Management System, U.S. Department of Transportation, Room Plaza 401, 400 Seventh Street, SW. Washington, DC 20590-0001. You must identify docket number FAA-2002-13923 at the beginning of your comments, and you should submit two copies of your comments. If you wish to receive confirmation that FAA received your comments, include a self-addressed, stamped postcard on which the docket number appears. We will stamp the date on the postcard and mail it to you.

You may also submit comments through the Internet to http://dms.dot.gov. You may review the public docket containing comments to these proposed regulations in person in the Dockets Office between 9 a.m. and 5 p.m., Monday through Friday, except Federal holidays. The Dockets Office is on the plaza level of the NASSIF Building at the Department of Transportation at the above address. Also, you may review comments made to this public docket on the Internet at http://dms.dot.gov.

FOR FURTHER INFORMATION CONTACT: Katherine Perfetti, AFS-200, 800 Independence Ave. SW., Washington, DC 20591 (202) 267-3760, facsimile at (202) 267-5229, or by email: Katherine.Perfetti@faa.gov

SUPPLEMENTARY INFORMATION:

Background

Industry dynamics, new technologies, new aircraft types and configurations, and current operating issues and environment mandate a comprehensive review and rewrite of parts 135 and 125. This review will also include related portions of parts 91, 119, 121, and other regulations. Issues under review include:

a. Design and manufacture of new aircraft that current regulations do not address adequately (for example, large airships, powered lift aircraft).

b. Certain large airplanes with modifications to payload capacity and passenger seat configuration operating under part 91 or 135.

c. New equipment and technologies not adequately addressed in current regulations.

d. International harmonization, ICAO commercial standards, and increased international operations.

Public Participation in the Regulatory Review Process

Membership. The FAA invites members of the public to serve on the part 135/125 Aviation Rulemaking Committee and/or work groups. The committee will provide advice and recommendations to the FAA to assist the agency in establishing a regulatory framework that will address industry trends and dynamics and issues, and to enhance safety in this segment of the industry. The committee acts solely in an advisory capacity. The committee will discuss and present whatever input, guidance, and recommendations considered relevant to the ultimate disposition of issues.

Because of the diversity and complexities of the part 135/125 industry and issues, the committee will be structured with a steering committee and specialized work groups. The steering committee will consist of approximately 25 members selected by the FAA representing aviation associations, industry representatives, employee groups, FAA and other government entities, and other participants to provide a balance of views, interests, and expertise. Membership on the steering committee will be limited to facilitate discussions. Priority will be given to those applicants representing an identified part of the aviation community who are empowered to speak for those interests.

Additional participation is provided through the specialized work groups. At this time, the FAA is considering the establishment of work groups comprised of subject matter experts, in the following subject areas:

—Operations

—Maintenance

—International operations

—Training

—Part 119 Applicability and Definitions

—Equipment and New Technologies

—Rotorcraft

—New aircraft (e.g., powered lift aircraft, airships)

—Other work groups may be established if required.

All non-government representatives serve without government compensation and bear all costs related to their participation on the steering committee or work groups. Members and participants should be available to attend all scheduled committee or work group meetings for the duration of the review.

It is anticipated that this committee will meet approximately 3-5 times a year, for 2-3 days for each meeting. Work groups will be scheduled as determined by the steering committee and work group members to provide information and meet schedule requirements.

Make your request to participate on the steering committee or specialized work groups in writing on or before March 5, 2003. Your request should provide the following information:

—Contact information (name, company and position, address, phone, facsimile, and email)

—Segment(s) of the industry or organization/association you represent

—Experience, subject expertise or other background information

The FAA will notify all selected members and participants in writing in advance of the first meeting. Additional information on the committee, membership, dates, and other information may be obtained on the Office of Rulemaking web site under the heading “Advisory Committees”.

Comments. As noted above, persons wishing to comment on this review may do so until June 3, 2003. In order to proceed with rulemaking, the FAA requests that commenters be timely in their comments.

Commenters should be as specific as possible and provide as much detail in comments as necessary to facilitate regulatory decision making. Comments should address the specific section of the regulation at issue, a detailed explanation of what needs to be changed and why, and the proposed regulatory change. Information on costs and benefits of the proposed change are particularly helpful.

Comments provided in response to this review will assist the FAA and committee in their review and deliberation.

Issued in Washington, DC on January 27, 2003.
Louis C. Cusimano,
Acting Director, Flight Standards Service.

[FR Doc. 03-2416 Filed 1-31-03; 8:45 am]

BILLING CODE 4910-13-P